DEPARTMENT OF THE INTERIOR

National Park Service

Notice of Submission of Study Package to Office of Management and Budget; Opportunity for Public Comment

AGENCY: Department of the Interior, National Park Service, Urban and Adjacent Parks

ACTION: Notice and request for comments.

ABSTRACT: The National Park Service (NPS) is proposing in 2000 and 2001 to conduct surveys of persons living in the metropolitan areas of Boston, MA, Los Angeles, CA, Miami, FL, and New Orleans, LA where the following urban national parks are located: Boston African-American National Historic Site, Santa Monica Mountains National Recreation Area, Biscayne National Park, and Jean Lafitte National Historical Park and Preserve. In these surveys, persons will be asked about their knowledge of the urban national park located in their metropolitan area, and their familiarity with community outreach efforts that the urban national park has instituted.

SUMMARY: Under the provisions of the Paperwork Reduction Act of 1995 a 5 CFR part 1320, Reporting and Record Keeping Requirements, the NPS invites public comment on the proposed information request (ICR). Comments are invited on: (1) The need for the information, including whether the information has practical utility; (2) the accuracy of the reporting burden estimate; (3) ways to enhance the quality, utility, and clarity of the information to be collected; and (4) ways to minimize the burden of the information collection on respondents, including the use of automated collection techniques or other forms of information technology.

The NPS goal in conducting this survey is to assess the community outreach programs in selected urban national parks to determine the program's contributions toward improving rates of NPS urban parks visitation by selected user groups. The information gathered will be used to help the staff at NPS evaluate and improve the outreach programs, including the educational programs they offer at the site and in the local community. The following study objectives have been identified:

• Determine the effectiveness of the parks' current outreach programs on the attitudes of people in the communities;

• Determine community awareness of visitor and ancillary services offered by the parks;

• Determine potential benefits of the park to the community;

• Determine the importance and value of the parks to community members.

There were no public comments received as a result of publishing in the Federal Register a 60-day notice of intention to request clearance of information collection for this survey.

DATES: Public comments will be accepted on or before December 5, 2001.

SEND COMMENTS TO: Office of Information and Regulatory Affairs of OMB, Attention Desk Officer for the Interior Department, Office of Management and Budget, Washington, DC 20503.

The OMB has up to 60 days to approve or disapprove the information collection, but may respond after 30 days. Therefore, to ensure maximum consideration, OMB should receive public comments within 30 days from the date listed at the top of this page of the Federal Register.

FOR FURTHER INFORMATION OR A COPY OF THE STUDY PACKAGE SUBMITTED FOR OMB REVIEW, CONTACT: Ronald Vogel: Voice: (225) 771-3103, e-mail: ron@idsmail.com.

SUPPLEMENTARY INFORMATION: Title: NPS Urban and Adjacent Parks: Assessment and Development of Community Outreach.

Bureau Form Number: None.

OMB Number: To be requested.

Expiration date: To be requested.

Type of Request: Request for new clearance.

Description of Need: Description of need: The National Park Service needs information to assess the effectives of community outreach programs in reaching residents who live near urban national parks.

Automated data collection: At the present time, there is no automated way to gather this information because it includes asking residents for determinations on effectiveness and awareness of select programs developed by individual parks.

Description of respondents: Persons residing in the metropolitan areas of Boston, MA, Los Angeles, CA, Miami, FL and New Orleans.

Estimated average number of respondents: 400 (100 per above metropolitan area).

Estimated average number of responses: Each respondent will respond only one time, so the number of responses will be the same as the number of respondents.

Estimated average burden hours per response: 30 minutes.

Frequency of response: 1 time per respondent.

Estimated annual reporting burden: 125 hours.

Dated: August 27, 2001.
Leonard E. Stowe,
Acting Information Collection Clearance Officer, WASO Administrative Program, Center, National Park Service.

[FR Doc. 01-27692 Filed 11-22-01; 8:45 am]

BILLING CODE 4310-70-M